SMALL BUSINESS ADMINISTRATION

Public Federal Regulatory Enforcement Fairness Roundtable; Region V Regulatory Fairness Board

The Small Business Administration Region V Regulatory Fairness Board and the SBA Office of the National Ombudsman will hold a Public Roundtable on Tuesday, April 27, 2004 at 8 a.m. at the American Family Insurance, National Headquarters, Building A (Auditorium), 6000 American Parkway, Madison, WI 53738-0001, to provide small business owners and representatives of trade associations with an opportunity to share information concerning the federal regulatory enforcement and compliance environment.

Anyone wishing to attend or to make a presentation must contact Becky Freund in writing or by fax, in order to be put on the agenda. Becky Freund, Economic Development Specialist, SBA Madison District Office, 740 Regent Street, Suite 100, Madison, WI 53715, phone (608) 441-5519, fax (202) 481-0411, e-mail: becky.freund@sba.gov.

For more information, see our Web site at http://www.sba.gov/ombudsman.

Dated: April 13, 2004.
Peter Sorum,
Senior Advisor, Office of the National Ombudsman.

[FR Doc. 04-8729 Filed 4-16-04; 8:45 am]

BILLING CODE 8025-01-P